DEPARTMENT OF COMMERCE

National Oceanic and Atmospheric Administration

[RTID 0648-XD609]

Marine Mammals; File No. 25563

AGENCY: National Marine Fisheries Service (NMFS), National Oceanic and Atmospheric Administration (NOAA), Commerce.

ACTION: Notice; receipt of application for permit amendment.

SUMMARY: Notice is hereby given that the NMFS Alaska Fisheries Science Center, Marine Mammal Laboratory, 7600 Sand Point Way NE, Seattle, WA 98115 (Responsible Party: John Bengtson, Ph.D.), has applied for an amendment to Scientific Research Permit No. 25563.

DATES: Written comments must be received on or before February 7, 2024.

ADDRESSES: The application and related documents are available for review by selecting “Records Open for Public Comment” from the “Features” box on the Applications and Permits for Protected Species home page, https://apps.nmfs.noaa.gov, and then selecting File No. 25563 from the list of available applications. These documents are also available upon written request via email to NMFS.Pr1Comments@noaa.gov.

Written comments on this application should be submitted via email to NMFS.Pr1Comments@noaa.gov. Please include File No. 25563 in the subject line of the email comment.

Those individuals requesting a public hearing should submit a written request via email to NMFS.Pr1Comments@noaa.gov. The request should set forth the specific reasons why a hearing on this application would be appropriate.

FOR FURTHER INFORMATION CONTACT: Amy Hapeman or Shasta McClenahan, Ph.D., (301) 427-8401.

SUPPLEMENTARY INFORMATION: The subject amendment to Permit No. 25563 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226), and the Fur Seal Act of 1966, as amended (16 U.S.C. 1151 et seq.).

Permit No. 25563, issued on November 8, 2021 (86 FR 70828, December 13, 2021), authorizes the permit holder to monitor cetacean population trends, abundance, distribution, and health in the North Pacific Ocean, the Bering, Beaufort, and Chukchi Seas, and the Gulf of Maine. Researchers may conduct aerial and vessel surveys to study 20 species of cetaceans including endangered or threatened blue (Balaenoptera musculus), bowhead (Balaena mysticetus), Cook Inlet beluga (Delphinapterus leucas), fin (Balaenoptera physalus), gray (Eschrichtius robustus), humpback (Megaptera novaeangliae), North Pacific right (Eubalaena japonica), sei (Balaenoptera borealis), Southern Resident killer (Orcinus orca), and sperm (Physeter macrocephalus) whales. Surveys are authorized for a suite of methods: observations, counts, photography/videography (underwater, topside, and aerial), photogrammetry, photo-identification, biological sampling (exhaled air, feces, blubber and skin, sloughed skin, environmental DNA, and prey remains), invasive and non-invasive tagging, and active acoustics. Researchers may attach up to two tags on a whale at a time. Biological samples collected on the high seas may be imported to the United States. Up to nine species of pinnipeds may be unintentionally harassed during surveys. See the take tables for specific numbers and life stages authorized for each species.

The permit holder is requesting the permit be amended to include authorization for blue, fin, gray, and humpback whales (adult and juvenile life stages) to receive up to three tags (suction-cup, dart/barb tag, and deep implant) at the same time. Deployment of three tags at a time will allow researchers to better understand whale movements and habitat use and to validate new sensors. The number of takes authorized for each species would not change. The amendment would be valid for the duration of the permit, which is set to expire October 31, 2026.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: January 3, 2024.
Julia M. Harrison,
Chief, Permits and Conservation Division, Office of Protected Resources, National Marine Fisheries Service.

[FR Doc. 2024-00139 Filed 1-5-24; 8:45 am]

BILLING CODE 3510-22-P